DEPARTMENT OF TRANSPORTATION

Federal Aviation Administration

14 CFR Part 39

[Docket No. FAA-2015-4112; Directorate Identifier 2014-SW-043-AD; Amendment 39-18471; AD 2016-07-26]

RIN 2120-AA64

Airworthiness Directives; Airbus Helicopters (previously Eurocopter France)

AGENCY: Federal Aviation Administration (FAA), DOT.

ACTION: Final rule.

SUMMARY: We are superseding Airworthiness Directive (AD) 2010-23-02 for Eurocopter France (now Airbus Helicopters) Model SA-365N, SA-365N1, AS-365N2, and AS 365 N3 helicopters. AD 2010-23-02 required amending the Limitations section of the Rotorcraft Flight Manual (RFM) to limit the never-exceed velocity (VNE) to 150 Knots Indicated Air Speed (KIAS) and to add a 1,500 ft/minute rate of descent (R/D) limitation beyond 140 KIAS. Since we issued AD 2010-23-02, a design change designated as modification (MOD) 0755B28 improved the dynamic behavior of the horizontal stabilizer such that AD actions are not required. This new AD retains the requirements of AD 2010-23-01 and revises the applicability to exclude helicopters with MOD 0755B28. We are issuing this AD to exclude certain helicopters from the applicability and restrict the VNE on other helicopters to prevent failure of the horizontal stabilizer and subsequent loss of control of the helicopter.

DATES: This AD is effective May 16, 2016.

ADDRESSES: For service information identified in this final rule, contact Airbus Helicopters, Inc., 2701 N. Forum Drive, Grand Prairie, TX 75052; telephone (972) 641-0000 or (800) 232-0323; fax (972) 641-3775; or at http://www.airbushelicopters.com/techpub. You may view this referenced service information at the FAA, Office of the Regional Counsel, Southwest Region, 10101 Hillwood Pkwy., Room 6N-321, Fort Worth, Texas 76177.

Examining the AD Docket

You may examine the AD docket on the Internet at http://www.regulations.gov in Docket No. FAA-2015-4112; or in person at the Docket Management Facility between 9 a.m. and 5 p.m., Monday through Friday, except Federal holidays. The AD docket contains this AD, the European Aviation Safety Agency (EASA) AD, the economic evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Robert Grant, Aviation Safety Engineer, Safety Management Group, FAA, 10101 Hillwood Pkwy., Fort Worth, Texas 76177; telephone (817) 222-5110; email robert.grant@faa.gov.

SUPPLEMENTARY INFORMATION:

Discussion

We issued a notice of proposed rulemaking (NPRM) to amend 14 CFR part 39 to remove AD 2010-23-02, Amendment 39-16491 (75 FR 68169, November 5, 2010) and add a new AD. AD 2010-23-02 applied to Eurocopter France (now Airbus Helicopters) Model SA 365N, SA-365N1, AS 365N2, and AS 365 N3 helicopters. AD 2010-23-02 required amending the Limitations section of the RFM to limit the VNE to 150 KIAS and to add a 1,500 ft/minute R/D limitation beyond 140 KIAS and installing one or more placards on the cockpit instrument panel in full view of the pilot and copilot. AD 2010-23-01 was prompted by AD No. 2008-0204R1, Revision 1, dated May 21, 2014, issued by EASA, which is the Technical Agent for the Member States of the European Union. EASA advises that Airbus Helicopters developed MOD 07 55B28 to improve the dynamic behavior of the horizontal stabilizer and thus reduce the vibration levels during high speed descent. EASA issued AD No. 2008-0204R1 to retain the requirements of its previous AD but to exclude helicopters with MOD 07 55B28 from the applicability.

The NPRM published in the Federal Register on October 19, 2015 (80 FR 63145). The NPRM proposed to retain the requirements to amend the Limitations section of the RFM and install one or more placards on the cockpit instrument panel. The NPRM also proposed to revise the applicability to exclude helicopters with MOD 0755B28 installed. The proposed requirements were intended to exclude certain helicopters from the applicability and restrict the VNE on other helicopters to prevent failure of the horizontal stabilizer and subsequent loss of control of the helicopter.

Comments

We gave the public the opportunity to participate in developing this AD, but we did not receive any comments on the NPRM (80 FR 63145, October 19, 2015).

FAA's Determination

These helicopters have been approved by the aviation authority of France and are approved for operation in the United States. Pursuant to our bilateral agreement with France, EASA, its technical representative, has notified us of the unsafe condition described in its AD. We are issuing this AD because we evaluated all information provided by EASA and determined the unsafe condition exists and is likely to exist or develop on other helicopters of the same type designs and that air safety and the public interest require adopting the AD requirements as proposed.

Related Service Information

Eurocopter has issued an Emergency Alert Service Bulletin (EASB) with three numbers (01.00.60, 01.00.16, and 01.28), Revision 1, dated December 2, 2008. EASB No. 01.00.60 applies to U.S. type-certificated Model SA-365N, SA-365N1, AS-365N2, and AS 365 N3 helicopters and also to military Model AS365F, Fs, Fi, and K helicopters that are not type certificated in the United States. EASB 01.00.16 applies to military Model AS565AA, MA, MB, SA, SB, and UB helicopters that are not type certificated in the United States. EASB 01.28 applies to the Model SA-366G1 helicopter. The EASB specifies bonding one or more locally-produced labels to the instrument panel stating that the VNE is limited to 150 KIAS and the R/D must not exceed 1,500 ft/min beyond 140 KIAS. Eurocopter states in the EASB that it is working on an enhanced definition that will be proposed as soon as possible. EASA classified this EASB as mandatory and issued AD No. 2008-0204-E, dated December 4, 2008, and revised with Revision 1, dated May 21, 2014, to ensure the continued airworthiness of these helicopters.

Airbus Helicopters has issued Service Bulletin (SB) No. AS365-55.00.06, Revision 0, dated November 14, 2014, which Airbus Helicopters identifies as MOD 0755B28. The SB specifies repairing the stabilizer for suppression of the flutter phenomenon.

Costs of Compliance

We estimate that this AD will affect 33 helicopters of U.S. Registry. We estimate that operators may incur the following costs in order to comply with this AD. Labor costs are estimated at $85 per work-hour. We estimate about l/2 work-hour per helicopter to make copies to include in the RFM and to make and install the placards. The parts costs are minimal. Based on these figures, we estimate the cost of this AD on U.S. operators will be $1,403 for the fleet.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that a regulatory; and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2010-23-02, Amendment 39-16491 (75 FR 68169, November 5, 2010), and adding the following new AD:

2016-07-26 Airbus Helicopters (previously Eurocopter France): Amendment 39-18471; Docket No. FAA-2015-4112; Directorate Identifier 2014-SW-043-AD.

(a) Applicability

This AD applies to Model SA-365N, SA-365N1, AS-365N2, and AS 365 N3 helicopters, with a horizontal stabilizer, part number 365A13-3030-1901, -1902, -1903, -1904, -1905, -1906, -1908, -1909; 365A13-3036-00, -0001, -0002, -0003; or 365A13-3038-00, installed, except those with modification 0755B28 installed, certificated in any category.

(b) Unsafe Condition

This AD defines the unsafe condition as vibration during descent at high speed. This condition could result in failure of the horizontal stabilizer and subsequent loss of control of the helicopter.

(c) Affected ADs

This AD replaces AD 2010-23-02, Amendment 39-16491 (75 FR 68169, November 5, 2010).

(d) Effective Date

This AD becomes effective May 16, 2016.

(e) Compliance

You are responsible for performing each action required by this AD within the specified compliance time unless it has already been accomplished prior to that time.

(f) Required Actions

Before further flight:

(1) Revise the airspeed operating limitation in the Limitations section of the Rotorcraft Flight Manual (RFM) by making pen and ink changes or by inserting a copy of this AD into the RFM stating: “The never-exceed speed (VNE) is limited to 150 knots indicated airspeed (KIAS)” and “The rate-of-descent (R/D) must not exceed 1,500 ft/min when the airspeed is beyond 140 KIAS.”

(2) Install one or more self-adhesive placards, with 6 millimeter red letters on white background, on the cockpit instrument panel in full view of the pilot and co-pilot to read as follows: “VNE LIMITED TO 150 KIAS” and “R/D MUST NOT EXCEED 1,500 ft/min when airspeed is beyond 140 KIAS”

(g) Alternative Methods of Compliance (AMOCs)

(1) The Manager, Safety Management Group, FAA, may approve AMOCs for this AD. Send your proposal to: Robert Grant, Aviation Safety Engineer, Safety Management Group, Rotorcraft Directorate, FAA, 10101 Hillwood Pkwy., Fort Worth, Texas 76177; telephone (817) 222-5110; email 9-asw-ftw-amoc-requests@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(h) Additional Information

(1) Eurocopter Emergency Alert Service Bulletin (EASB) No. 01.00.60, 01.00.16, and 01.28, Revision 1, dated December 2, 2008, and Airbus Helicopters Service Bulletin No. AS365-55.00.06, Revision 0, dated November 14, 2014, which are not incorporated by reference, contain additional information about the subject of this final rule. For service information identified in this final rule, contact Airbus Helicopters, Inc., 2701 N. Forum Drive, Grand Prairie, TX 75052; telephone (972) 641-0000 or (800) 232-0323; fax (972) 641-3775; or at http://www.airbushelicopters.com/techpub. You may review a copy of the service information at the FAA, Office of the Regional Counsel, Southwest Region, 10101 Hillwood Pkwy., Room 6N-321, Fort Worth, TX 76177.

(2) The subject of this AD is addressed in European Aviation Safety Agency (EASA) AD No. 2008-0204R1, dated May 21, 2014. You may view the EASA AD on the Internet at http://www.regulations.gov in Docket No. FAA-2015-4112.

(i) Subject

Joint Aircraft Service Component (JASC) Code 5310: Horizontal Stabilizer Structure.

Issued in Fort Worth, Texas, on March 31, 2016.
James A. Grigg,
Acting Manager, Rotorcraft Directorate, Aircraft Certification Service.

[FR Doc. 2016-07981 Filed 4-8-16; 8:45 am]

BILLING CODE 4910-13-P